INTERNATIONAL TRADE COMMISSION

[Inv. No. 337-TA-1323]

Certain Video Processing Devices and Products Containing the Same; Institution of Investigation

AGENCY: U.S. International Trade Commission.

ACTION: Notice.

SUMMARY: Notice is hereby given that a complaint was filed with the U.S. International Trade Commission on July 1, 2022, under section 337 of the Tariff Act of 1930, as amended, on behalf of VideoLabs, Inc. of Palo Alto, California. A supplement to the complaint was filed on July 21, 2022. The complaint, as supplemented, alleges violations of section 337 based upon the importation into the United States, the sale for importation, and the sale within the United States after importation of certain video processing devices and products containing the same by reason of infringement of certain claims of U.S. Patent No. 7,769,238 (“the '238 Patent”), U.S. Patent No. 8,139,878 (“the '878 Patent”), U.S. Patent No. 8,208,542 (“the '542 Patent”), and U.S. Patent No. 7,372,452 (“the '452 Patent”). The complaint further alleges that an industry in the United States exists, or is in the process of being established, as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION: Authority: The authority for institution of this investigation is contained in section 337 of the Tariff Act of 1930, as amended, 19 U.S.C. 1337, and in section 210.10 of the Commission's Rules of Practice and Procedure, 19 CFR 210.10 (2021).

Scope of Investigation: Having considered the complaint, the U.S. International Trade Commission, on August 2, 2022, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claim 1 of the '238 patent; claims 1-4 of the '878 patent; claims 1 and 2 of the '542 patent; and claims 1-6 and 12-18 of the '452 patent, and whether an industry in the United States exists or in the process of being established as required by subsection (a)(2) of section 337;

(2) Pursuant to section 210.10(b)(1) of the Commission's Rules of Practice and Procedure, 19 CFR 210.10(b)(1), the plain language description of the accused products or category of accused products, which defines the scope of the investigation, is “servers, desktop computers, laptop computers, tablet computers, smartphones, and displays”;

(3) For the purpose of the investigation so instituted, the following are hereby named as parties upon which this notice of investigation shall be served:

(a) The complainant is:

VideoLabs, Inc., 2303 Saint Francis Drive, Palo Alto, California 94303

(b) The respondents are the following entities alleged to be in violation of section 337, and are the parties upon which the complaint is to be served:

Acer Inc. 8F, 88, Sec. 1, Xintai 5th Road, Xizhi, New Taipei City 221, F5 10516815, Taiwan

Acer America Corporation, 1730 N. 1st Street, Suite 400, San Jose, CA 95112

ASUSTeK Computer Inc., No. 15, Li-Te Road, Beitou District, Taipai 112, F5, Taiwan

ASUS Computer International, 48720 Kato Road, Fremont, CA 94538

Lenovo Group Limited, Lincoln House, 23rd Fl., Taikoo Place, 979 King's Road, Quarry Bay, K3 0852, Hong Kong S.A.R. of China

Lenovo (United States) Inc., 8001 Development Drive, Morrisville, NC 27560

Micro-Star International Co., Ltd., No. 69, Lide Street, Zhonghe District, New Taipei City 235, Taiwan

Motorola Mobility LLC, 222 W. Merchandise Mart Plaza, Suite 1800, Chicago, IL 60654

MSI Computer Corp., 901 Canada Court, City of Industry, CA 91748

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: August 3, 2022.
Katherine Hiner,
Acting Secretary to the Commission.

[FR Doc. 2022-16957 Filed 8-5-22; 8:45 am]

BILLING CODE 7020-02-P